DEPARTMENT OF ENERGY

Federal Energy Regulatory Commission

Sunshine Act Meeting Notice

January 8, 2009.

The following notice of meeting is published pursuant to section 3(a) of the government in the Sunshine Act (Pub. L. No. 94-409), 5 U.S.C. 552b:

Agency Holding Meeting: Federal Energy Regulatory Commission.

Date and Time: January 15, 2009, 10 a.m.

Place: Room 2C, 888 First Street, NE., Washington, DC 20426.

Status: Open.

Matters To Be Considered: Agenda.

* Note —Items listed on the agenda may be deleted without further notice.

FOR FURTHER INFORMATION CONTACT: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

944TH—Meeting
Item No. | Docket No. | Company
Administrative
A-1 | AD02-1-000 | Agency Administrative Matters.
A-2 | AD02-7-000 | Customer Matters, Reliability, Security and Market Operations.
A-3 | AD06-3-000 | Energy Market Update.
Electric
E-1 | AD09-3-000 | Compliance with Mandatory Reliability Standards.
E-2 | OMITTED
E-3 | OMITTED
E-4 | OMITTED
E-5 | RR08-6-001, RR07-14-002 | North American Electric Reliability Corporation.
E-6 | QF09-37-001 | Ausra CA I, LLC.
E-7 | ER04-449-005 | New York Independent System Operator, Inc. and New York Transmission Owners.
| ER04-449-006
| ER04-449-009
| ER04-449-010
| ER04-449-011
| ER04-449-012
| ER04-449-013
| ER04-449-014
| ER04-449-015
| ER04-449-017
E-8 | ER07-521-005 | New York Independent System Operator, Inc.
E-9 | OMITTED
E-10 | OMITTED
E-11 | EL08-12-001 | PJM Industrial Customer Coalition v. PJM Interconnection, L.L.C.
E-12 | OMITTED
E-13 | ER05-849-009 | California Independent System Operator Corporation.
E-14 | OMITTED
E-15 | ER08-1170-001 | PJM Interconnection, L.L.C.
E-16 | ER07-653-001 | The United Illuminating Company.
E-17 | OMITTED
E-18 | ER06-1458-000 | E. On U.S., LLC.
| ER06-1458-001
| ER06-1458-002
E-19 | EL03-37-009 | Town of Norwood Massachusetts v. National Grid USA, New England Electric System, Massachusetts Electric Company, and Narragansett Electric Light Company.
E-20 | ER08-966-001 | Northeast Utilities Service Company.
E-21 | PA08-2-000 | Southwest Power Pool, Inc.
E-22 | ER03-563-064 | Devon Power LLC.
E-23 | ER00-3251-015 | Exelon Generation Company, LLC.
| ER00-3251-017
| ER99-754-016 | AmerGen Energy Company, LLC.
| ER99-754-017
| ER98-1734-014 | Commonwealth Edison Company.
| ER98-1734-016
| ER01-1919-011 | Exelon Energy Company.
| ER01-1919-013
| ER01-1147-006, ER01-1147-007 | PECO Energy Company.
| ER01-513-021 | Exelon West Medway, LLC.
| ER01-513-022 | Exelon Wyman, LLC, Exelon New Boston, LLC, Exelon Framingham, LLC.
| ER99-2404-011, ER99-2404-012 | Exelon New England Power Marketing, L.P.
E-24 | ER08-412-002 | Commonwealth Edison Company, Exelon Generation Company, LLC.
E-25 | EL08-72-000 | NRG Energy, Inc. v. Entergy Services, Inc.
E-26 | EL08-84-000 | Arkansas Electric Energy Consumers, Inc. v. Entergy Corporation, Entergy Services, Inc., Entergy Arkansas, Inc., Entergy Gulf States, Louisiana, Inc., Entergy Louisiana, L.L.C., Entergy Mississippi, Inc., Entergy New Orleans, Inc. and Entergy Texas, Inc.
E-27 | ER06-787-002, ER06-787-003 | Idaho Power Company.
E-28 | EL08-46-000, EL08-46-001 | MMC Energy, Inc. v. California Independent System Operator Corporation.
Gas
G-1 | RP04-274-000 | Kern River Gas Transmission Company.
| RP04-274-009
| RP00-157-015
G-2 | IN09-7-000 | Tenaska Marketing Ventures, Tenaska Energy Services, LLC, Tenaska Gas Company, Tenaska Gas Storage, Tenaska Grimes, Inc., Tenaska Marketing, Inc., Tenaska Operations, Inc., Tenaska Storage Company.
| IN09-8-000 | ONEOK, Inc., ONEOK Partners, L.P., ONEOK Energy Services Company, L.P., ONEOK Energy Marketing Company, ONEOK Energy Services Canada, LTD, ONEOK Field Services Company, L.L.C., ONEOK Midstream Gas Supply, L.L.C., Bear Paw Energy, L.L.C., Kansas Gas Service, a division of ONEOK, Inc.
| IN09-11-000 | Klabzuba Oil & Gas, F.L.P.
| IN09-12-000 | Jefferson Energy Trading, LLC, Wizco, Inc., Golden Stone Resources, LLC.
G-3 | IN09-9-000 | Seminole Energy Services, LLC, Seminole Gas Company, LLC, Seminole High Plains, LLC, Lakeshore Energy Services, LLC, Vanguard Energy Services, LLC.
G-4 | IN09-10-000 | National Fuel Marketing Company, LLC, NFM Midstream, LLC, NFM Texas Pipeline, LLC, NFM Texas Gathering, LLC.
Hydro
H-1 | P-10359-039 | Snoqualmie River Hydro, Inc. Public Utility District No. 1 of Snohomish County, Washington.
H-2 | P-2485-051, P-1889-070 | FirstLight Hydro Generating Company.
Certificates
C-1 | CP07-62-000 | AES Sparrows Point LNG, LLC.
| CP07-63-000 | Mid-Atlantic Express, LLC.
| CP07-64-000
| CP07-65-000
C-2 | CP06-365-002 | Bradwood Landing LLC.
| CP06-366-002 | NorthernStar Energy LLC.
| CP06-376-002
| CP06-377-002
C-3 | CP05-130-005 | Dominion Cove Point, LNG, LP.
| CP05-132-004
| CP05-395-004
| CP05-131-004 | Dominion Transmission, Inc.
C-4 | CP08-431-000 | Columbia Gas Transmission Corporation.
C-5 | CP09-34-000 | ConocoPhillips Alaska Natural Gas Corporation and Marathon Oil Company.

Kimberly D. Bose,
Secretary.

A free Web cast of this event is available through http://www.ferc.gov. Anyone with Internet access who desires to view this event can do so by navigating to http://www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-1089 Filed 1-21-09; 8:45 am]

BILLING CODE 6717-01-P